DEPARTMENT OF TRANSPORTATION

Federal Railroad Administration

Petition for Waiver of Compliance

In accordance with Part 211 of Title 49 Code of Federal Regulations (CFR), notice is hereby given that the Federal Railroad Administration (FRA) received a request for extension of a waiver of compliance with certain requirements of its safety standards. The individual petition is described below, including the party seeking relief, the regulatory provisions involved, the nature of the relief being requested, and the petitioner's arguments in favor of relief.

Union Pacific Railroad Company

[Waiver Petition Docket Number FRA-2000-7669 (formally RSOP-96-1)]

Union Pacific Railroad Company (UP) seeks an extension of a waiver of compliance from certain sections of 49 CFR Part 218, Subpart B—Blue Signal Protection of Workers. UP originally requested a permanent waiver of the provisions of 49 CFR 218.25, Workers on a main track, at its El Paso, Texas, fueling facility.

UP has designated four additional tracks at the fueling facility as main tracks for a total of six main tracks in the facility, which are in the middle of the yard and are used for functions normally performed on yard tracks. UP originally requested relief so that they could have the flexibility of treating these main tracks at the El Paso facility as tracks other than main tracks so it may have the option of protecting its employees working on, under, or between rolling equipment in accordance with 49 CFR 218.25 or 218.27, or a combination of both, in lieu of Part 218.25, Workers on a main track. UP believes that the safest and most efficient method of protecting its employees in the El Paso facility is through the use of a combination of blue signal protection and remotely controlled switches. This waiver was previously conditionally approved on May 27, 1997, for a two-year period, and a one-year extension was granted on June 24, 1999.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (Waiver Petition Docket Number 2000-7669) and must be submitted to the Docket Clerk, DOT Docket Management Facility, Room PL-401 (Plaza Level), 400 7th Street, S.W., Washington, D.C. 20590. Communications received within 30 days of the date of this notice will be considered by FRA before final action is taken. Comments received after that date will be considered as far as practicable. All written communications concerning these proceedings are available for examination during regular business hours (9:00 a.m.-5:00 p.m.) at the above facility. All documents in the public docket are also available for inspection and copying on the Internet at the docket facility's web site at http://dms.dot.gov.

Issued in Washington, D.C. on August 25, 2000.
Grady C. Cothen, Jr.,
Deputy Associate Administrator for Safety Standards and Program Development.

[FR Doc. 00-22291 Filed 8-30-00; 8:45 am]

BILLING CODE 4910-06-P